DEPARTMENT OF THE INTERIOR

National Park Service

[NPS-WASO-NAGPRA-NPS0035286; PPWOCRADN0-PCU00RP14.R50000]

Notice of Inventory Completion: North Carolina Office of State Archaeology, Raleigh, NC

AGENCY: National Park Service, Interior.

ACTION: Notice.

SUMMARY: The North Carolina Office of State Archaeology has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the North Carolina Office of State Archaeology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the North Carolina Office of State Archaeology at the address in this notice by March 10, 2023.

FOR FURTHER INFORMATION CONTACT: Emily McDowell, Office of State Archaeology, 215 West Lane Street, Raleigh, NC 27616, telephone (919) 715-5599, email emily.mcdowell@ncdcr.gov.

SUPPLEMENTARY INFORMATION: Notice is here given in accordance with the Native American Graves Protection and Repatriation Act (NAGPRA), 25 U.S.C. 3003, of the completion of an inventory of human remains and associated funerary objects under the control of the North Carolina Office of State Archaeology, Raleigh, NC. The human remains and associated funerary objects were removed from the Hanging Dog Site (31CY12) located in Clay County, NC.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the North Carolina Office of State Archaeology professional staff in consultation with representatives of the Cherokee Nation; Eastern Band of Cherokee Indians; and The Muscogee (Creek) Nation.

History and Description of the Remains

In 1986, human remains representing, at minimum, one individual were removed from the Hanging Dog site (31CY12) in Clay County, NC. During investigations for the Clay County Industrial Park Project, the Tennessee Valley Authority discovered the remains of two individuals in situ. The remains of one of the individuals were left in place and the remains of the other individual were excavated and removed. No chain of custody or intake transfer are included in the paperwork and the date of intake and circumstances surrounding the individual's arrival at the North Carolina Office of State Archaeology are unknown. The fragmentary human remains belong to a sub-adult individual perhaps a child less than five years of age. No known individual was identified. The one associated funerary object is one lot of glass and copper beads and fibers.

The Hanging Dog site consists of a Qualla-phase historic tanning shed and an early Cherokee farmstead with burials. Fibers extracted from the burial and analyzed in 2001 provide a historic 17th century time frame. Burial style, site time frame, abundant grave goods, and fiber analysis all suggest the burial is a historic Cherokee child who was an important member of his or her group.

Determinations Made by the North Carolina Office of State Archaeology

Officials of the North Carolina Office of State Archaeology have determined that:

• Pursuant to 25 U.S.C. 3001(9), the human remains described in this notice represent the physical remains of one individual of Native American ancestry.

• Pursuant to 25 U.S.C. 3001(3)(A), the one object described in this notice are reasonably believed to have been placed with or near individual human remains at the time of death or later as part of the death rite or ceremony.

• Pursuant to 25 U.S.C. 3001(2), there is a relationship of shared group identity that can be reasonably traced between the Native American human remains and associated funerary objects and the Cherokee Nation; Eastern Band of Cherokee Indians; and the United Keetoowah Band of Cherokee Indians in Oklahoma (hereafter referred to as “The Tribes”).

Additional Requestors and Disposition

Lineal descendants or representatives of any Indian Tribe or Native Hawaiian organization not identified in this notice that wish to request transfer of control of these human remains and associated funerary objects should submit a written request with information in support of the request to Emily McDowell, North Carolina Office of State Archaeology, 215 West Lane Street, Raleigh, NC 27616, telephone (919) 715-5599, email emily.mcdowell@ncdcr.gov, by March 10, 2023. After that date, if no additional requestors have come forward, transfer of control of the human remains and associated funerary objects to The Tribes may proceed.

The North Carolina Office of State Archaeology is responsible for notifying The Tribes and The Muscogee (Creek) Nation that this notice has been published.

Dated: February 1, 2023.
Melanie O'Brien,
Manager, National NAGPRA Program.

[FR Doc. 2023-02629 Filed 2-7-23; 8:45 am]

BILLING CODE 4312-52-P